DEPARTMENT OF ENERGY

Federal Energy Regulatory Commission

[Project No. 15228-000]

Pond Peak Energy Storage, LLC; Notice of Preliminary Permit Application Accepted for Filing and Soliciting Comments, Motions To Intervene, and Competing Applications

On July 26, 2021, Pond Peak Energy Storage LLC, filed an application for a preliminary permit, pursuant to section 4(f) of the Federal Power Act (FPA), proposing to study the feasibility of the Pond Peak Pumped Storage Project (Pond Peak Project or project), a closed-loop pumped storage project to be located in Washoe County, Nevada. The sole purpose of a preliminary permit, if issued, is to grant the permit holder priority to file a license application during the permit term. A preliminary permit does not authorize the permit holder to perform any land-disturbing activities or otherwise enter upon lands or waters owned by others without the owners' express permission.

The proposed project would consist of the following new facilities: (1) a 1,250-foot-long, 75-foot-high earthen dam and a 650-foot-long, 35-foot-high earthen dam, collectively creating a 3,400 acre-foot upper reservoir with a maximum surface elevation of 7,530 feet above mean sea level (msl); (2) a 7,830-foot-long, 17-foot-diameter concrete- and steel-lined underground conduit system to connect the upper reservoir to the powerhouse; (3) a 4,000-foot-long, 19-foot-diameter concrete-lined underground tailrace tunnel from the powerhouse to the lower reservoir; (4) an underground powerhouse containing three variable-speed reversible pump-turbine and motor-generator units with a generation and pumping capacity of 200 megawatts each (total capacity of 600 megawatts); (5) a 1,400-foot-long, 185-foot-high dam creating a 3,460 acre-foot lower reservoir with a maximum surface elevation of 5,920 feet above msl; (6) a 230-kilovolt transmission line from the powerhouse to one of two alternative points of interconnection, one resulting in a 10.5-mile-long transmission line and the other resulting in a 4.5-mile-long transmission line; and (7) appurtenant facilities. The estimated average annual generation of the Pond Peak Project would be 1,051,200 megawatt-hours.

Applicant Contact: Matthew Shapiro, Pond Peak Energy Storage, LLC, 424 West Pueblo, Suite A, Boise, Idaho 83702; phone: (208) 246-9925.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15228-000.

More information about this project, including a copy of the application, can be viewed or printed on the “eLibrary” link of Commission's website at https://www.ferc.gov/ferc-online/elibrary/overview. Enter the docket number (P-15228) in the docket number field to access the document. For assistance, contact FERC Online Support.

Dated: August 18, 2022.
Kimberly D. Bose,
Secretary.

[FR Doc. 2022-18234 Filed 8-23-22; 8:45 am]

BILLING CODE 6717-01-P